NATIONAL AERONAUTICS AND SPACE ADMINISTRATION

[05-148]

Notice of Information Collection

AGENCY: National Aeronautics and Space Administration (NASA).

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). NASA will utilize the information collected to determine whether the Agency's recruitment efforts are reaching all segments of the country.

DATES: Comments on this proposal should be received within 30 calendar days from the date of this publication.

ADDRESSES: All comments should be addressed to Desk Officer for NASA; Office of Information and Regulatory Affairs; Office of Management and Budget; Room 10236; New Executive Office Building; Washington, DC 20503.

FOR FURTHER INFORMATION CONTACT: Requests for additional information or copies of information collection instrument(s) and instructions should be directed to Mr. Walter Kit, NASA Reports Officer, NASA Headquarters, 300 E Street, SW., Mail Suite 6M70, Washington, DC 20546, (202) 358-1350, Walter.Kit-1@nasa.gov.

SUPPLEMENTARY INFORMATION:

I. Abstract

The National Aeronautics and Space Administration (NASA) is requesting renewal of an existing collection that is used to ensure NASA collects racial and ethnic data information from on-line job applicants to determine if NASA's recruitment efforts are reaching all segments of the country, as required by Federal law.

II. Method of Collection

NASA uses electronic methods to collect information from collection respondents.

III. Data

Title: NASA Voluntary On-Line Job Applicant Racial and Ethnic Data.

OMB Number: 2700-0103.

Type of Review: Renewal.

Affected Public: Individuals or households; Federal government.

Number of Respondents: 40,000.

Responses per Respondent: 5 minutes.

Annual Responses: 40,000.

Hours per Request: 5 min/request.

Annual Burden Hours: 3,334.

Frequency of Report: On occasion.

Estimated Total Annual Cost: $0.

Dated: October 6, 2005.
Patricia L. Dunnington,
Chief Information Officer.

[FR Doc. 05-20561 Filed 10-13-05; 8:45 am]

BILLING CODE 7510-13-P